DEPARTMENT OF ENERGY

Federal Energy Regulatory Commission

[Project No. 15033-000]

Bob and Judy Goodman; Notice of Intent To File License Application, Filing of Pre Application Document, and Approving Use of the Traditional Licensing Process

a. Type of Filing: Notice of Intent to File License Application and Request to Use the Traditional Licensing Process.

b. Project No.: 15033-000.

c. Date Filed: May 14, 2020.

d. Submitted By: Bob and Judy Goodman (the Goodmans).

e. Name of Project: Goodman Residential Hydro.

f. Location: On Prairie Creek in Wallowa County, near the town of Joseph, Oregon.

g. Filed Pursuant to: 18 CFR 5.3 of the Commission's regulations.

h. Potential Applicant Contact: Matt King, Wallowa Resources Community Solutions, Inc., 401 NE 1st Street, Suite A, Enterprise, Oregon 97828; 541-426-8053; matt@wallowaresources.org.

i. FERC Contact: Peter McBride at (202) 502-8132; or email at peter.mcbride@ferc.gov.

j. The Goodmans filed their request to use the Traditional Licensing Process on May 14, 2020. The Goodmans provided public notice of their request on June 11, 2020. In a letter dated August 5, 2020, the Director of the Division of Hydropower Licensing approved the Goodmans' request to use the Traditional Licensing Process.

k. With this notice, we are initiating informal consultation with: (a) The U.S. Fish and Wildlife Service and/or NOAA Fisheries under section 7 of the Endangered Species Act and the joint agency regulations thereunder at 50 CFR, Part 402, and NOAA Fisheries under section 305(b) of the Magnuson-Stevens Fishery Conservation and Management Act and implementing regulations at 50 CFR 600.920; and (b) the Oregon State Historic Preservation Officer, as required by section 106, National Historical Preservation Act, and the implementing regulations of the Advisory Council on Historic Preservation at 36 CFR 800.2.

l. With this notice, we are designating the Goodmans as the Commission's non-federal representative for carrying out informal consultation, pursuant to section 7 of the Endangered Species Act, and section 106 of the National Historic Preservation Act.

m. The Goodmans filed a Pre-Application Document (PAD; including a proposed process plan and schedule) with the Commission, pursuant to 18 CFR 5.6 of the Commission's regulations.

n. A copy of the PAD may be viewed on the Commission's website (http://www.ferc.gov), using the “eLibrary” link. Enter the docket number, excluding the last three digits in the docket number field to access the document. For assistance, contact FERC Online Support at FERCONlineSupport@ferc.gov or toll free at 1-866-208-3676, or for TTY, (202) 502-8659.

o. The applicant states its unequivocal intent to submit an application for an original license for Project No. 15033-000.

p. Register online at https://ferconline.ferc.gov/FERCOnline.aspx to be notified via email of new filing and issuances related to this or other pending projects. For assistance, contact FERC Online Support.

Dated: August 5, 2020.
Kimberly D. Bose,
Secretary.

[FR Doc. 2020-17504 Filed 8-10-20; 8:45 am]

BILLING CODE 6717-01-P